NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to these permit applications by September 5, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctic and designation of certain animals and certain geographic areas a requiring special protection. The regulations establish such a permit system to designate Specially Protected Areas and Sites of Special Scientific Interest.

The applications received are as follows:

1. Applicant: Victoria Underwood-Wheatley, Abercrombie & Kent, Inc./ Explorer Shipping Corp., 10601 Tierrasanta Blvd., #316, San Diego, CA 92124.

[Permit Application No. 2002-004]

Activity for Which Permit is Requested: Take. The application proposes to opportunistically salvage up to two penguin carcasses (Adelie, gentoo, or chinstrap) for educational purposes for anatomical analyses and physiological studies. The carcasses will be collected during the M/S Explorer's January 4-19, 2002 voyage to the Antarctic Peninsula. Onboard will be high school students and adult escorts and teachers from two elite preparatory schools: the Hotchkiss School in Connecticut, and the Foxcroft School in Virginia. The study of the carcasses will be a unique and highly educational opportunity for the students. The carcasses will remain in the Antarctic Treaty Area.

Location: Antarctic Penninsula Area.

Dates: January 4-19, 2002.

2. Applicant: Gary D. Miller, Biology Department, University of New Mexico, Albuquerque, New Mexico 87131-0001.

[Permit Application No. 2002-005]

Activity for Which Permit is Requested: Take and Import into the U.S. The applicant proposes continue the analysis of phylogenetic relationships, population genetics, and disease of Antarctic seabirds. The applicant proposes to collect blood and tissue samples from up to 400 Adelie and up to 200 Chinstrap, Gentoo, Macaroni, and Emperor penguins, South Polar and Antarctic skuas, Kelp gulls and Snowy Sheathbills each over the next two years. In addition, the applicant plans to attach up to 10 conventional VHF transmitters and not more than 3 satellite transmitters on skuas each year to determine the dynamics of movement around the breeding area and then to determine the greater distance traveled during migration. This will address the ability of skuas to become infected and subsequently pass on avian diseases.

The applicant will conduct most of his sampling in collaboration with Australian scientists at Davis Station in East Antarctica. Other samples will be taken on an opportunistic basis while serving as a lecturer onboard cruise ships operating in the Peninsula Area during the austral summer. Samples collected will be returned to the United States for analysis.

Location: Antarctic Peninsula and associated islands, East Antarctica and the Ross Sea region.

Dates: November 1, 2001 to April 1, 2003.

3. Applicant: Ruldolf S. Scheltema, Biology Department, Woods Hole Oceanographic Institution, Woods Hole, MA 02543.

[Permit Application No. 2002-006]

Activity for Which Permit is Requested: Introduce into Antarctica. The applicant proposes to use Thalassiosera pseudonana, Isochryois galbana, and Dunaliella teriolecta cultures of unicellur algae in rearing zooplankton organisms. Indigenous zooplankton will be collected in antarctic waters and reared in the laboratory onboard ship, using the above named unicellular algae as food. The study will deal with the history of antarctic organisms, in particular with the larvae of benthic organisms. The larval life history is especially important in understanding the demography of bottom organisms. At the completion of the study, the algal cultures will be disposed of by heat sterilization.

Location: Onboard the R/V LAURENCE M. GOULD in the region of the South Shetland Islands, Antarctic Peninsula region.

Dates: November 30, 2001 to December 31, 2001.

Nadene G. Kennedy,
Permit Officer, Office of Polar Programs.

[FR Doc. 01-19800 Filed 8-6-01; 8:45 am]

BILLING CODE 7555-01-M